DEPARTMENT OF THE INTERIOR

Fish and Wildlife Service

[FWS-R2-ES-2014-N217; FXES11130200000-156-FF02ENEH00]

Draft Environmental Assessment and Draft Habitat Conservation Plan; Anderson Tract; Proposed Development of 60.7 Acres in Bexar County, Texas

AGENCY: Fish and Wildlife Service, Interior.

ACTION: Notice of availability; request for comments.

SUMMARY: Under the Endangered Species Act of 1973, as amended, we, the U.S. Fish and Wildlife Service, invite the public to comment on an incidental take permit application for take of the federally listed golden-cheeked warbler, including a draft Habitat Conservation Plan and draft Environmental Assessment; the take would result from clearing and construction of a residential development on the 60.7-acre Anderson Tract in Bexar County, Texas.

DATES: Comments: We will accept comments received or postmarked on or before February 17, 2015. Any comments that we receive after the closing date may not be considered in the final decisions on these actions.

ADDRESSES: You may obtain copies of all documents and submit comments on the applicant's incidental take permit application by one of the following methods. Please refer to the permit number (TE-29216B) when requesting documents or submitting comments.

• U.S. Mail: U.S. Fish and Wildlife Service, Division of Endangered Species—HCP Permits, P.O. Box 1306, Room 6034, Albuquerque, NM 87103.

• Electronically: fw2_hcp_permits@fws.gov.

• In-Person: Copies of the draft EA and draft HCP are also available for public inspection and review at the following locations, by appointment and written request only, 8 a.m. to 4:30 p.m.:

○ U.S. Fish and Wildlife Service, 500 Gold Avenue SW., Room 6034, Albuquerque, NM 87102.

○ U.S. Fish and Wildlife Service, 10711 Burnet Road, Suite 200, Austin, TX 78758.

FOR FURTHER INFORMATION CONTACT: Adam Zerrenner, Field Supervisor, by U.S. mail at the U.S. Fish and Wildlife Service, 10711 Burnet Road, Suite 200, Austin, TX 78758; or via telephone at (512) 490-0057.

SUPPLEMENTARY INFORMATION: In accordance with the requirements of the National Environmental Policy Act of 1969 (NEPA) (42 U.S.C. 4321 et seq.), we advise the public that:

We have gathered the information necessary to determine impacts and formulate alternatives for the draft Environmental Assessment (dEA) related to potential issuance of an incidental take permit (ITP) to the Applicant. The Applicant has developed a draft Habitat Conservation Plan (dHCP) as part of the application for an ITP, which describes the measures the Applicant has agreed to take to minimize and mitigate the effects of incidental take of the golden-cheeked warbler (Setophaga [=Dendroica] chrysoparia; GCWA) to the maximum extent practicable pursuant to section 10(a)(1)(B) of the Endangered Species Act of 1973, as amended (16 U.S.C. 1531 et seq.; Act).

Anaqua Springs Ranch, Inc. (Applicant), has applied to the U.S. Fish and Wildlife Service (Service) for an ITP (TE-29216B) under section 10(a)(1)(B) of the Act. The proposed take would occur on the 60.7-acre Anderson Tract (Permit Area) in Bexar County, Texas, as a result of activities associated with the Applicant's proposed clearing and construction of a residential development (Covered Activities). Such actions will require clearing of GCWA habitat.

The dEA considers the direct, indirect, and cumulative effects of implementation of the dHCP, including the measures that will be implemented to minimize and mitigate, to the maximum extent practicable, the impacts of the incidental take of the covered species.

Background

In May 2013, the Applicant submitted an ITP application, dHCP, and dEA for proposed incidental take on 60.7 acres in Bexar County, Texas. The Service reviewed and edited the dEA and provided comments on the dHCP.

Proposed Action

The proposed action involves the issuance of an ITP by the Service for the Covered Activities in the Permit Area, pursuant to section 10(a)(1)(B) of the Act. The ITP would cover “take” of the Covered Species associated with the clearing and construction of a residential development within the Permit Area.

To meet the requirements of a section 10(a)(1)(B) ITP, the Applicant has developed and proposes to implement its dHCP, which describes the conservation measures the Applicant has agreed to undertake to minimize and mitigate for the impacts of the proposed incidental take of the Covered Species to the maximum extent practicable, and ensures that incidental take will not appreciably reduce the likelihood of the survival and recovery of these species in the wild.

The Applicant proposes to mitigate with the purchase of 60.7 acres of high quality habitat, likely from a Service-approved conservation bank with the Anderson Tract in its service area.

Alternatives

Two alternatives to the proposed action we are considering as part of this process are:

1. No Action: No ITP would be issued. Under a No Action alternative, the applicant would not request, and the Service would not issue, an ITP for development of the Anderson Tract, and therefore the Applicant would not implement the conservation measures described in the dHCP.

2. Lower Mitigation: The Lower Mitigation alternative is similar to the Proposed Action in that the Service would issue an ITP for the proposed project. However, the HCP under this alternative would be modified to include the purchase of a lesser number of conservation credits for the GCWA. All other aspects of the proposed project and the HCP would remain the same.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act and its implementing regulations (50 CFR 17.22 and 17.32) and NEPA and its implementing regulations (40 CFR 1506.6).

Joy E. Nicholopoulos,
Acting Regional Director, Southwest Region, Albuquerque, New Mexico.

[FR Doc. 2014-29646 Filed 12-17-14; 8:45 am]

BILLING CODE 4310-55-P